DEPARTMENT OF HOMELAND SECURITY

Coast Guard

46 CFR Parts 10, 12, 28, 30

[USCG-2004-18884]

RIN 1625-ZA03

Shipping and Transportation; Technical, Organizational and Conforming Amendments

AGENCY: Coast Guard, DHS.

ACTION: Final rule; corrections.

SUMMARY: This document contains corrections to the Shipping and Transportation; Technical, Organizational and Conforming Amendments final rule for Titles 46 and 49 of the Code of Federal Regulations (USCG-2004-18884) published on September 30, 2004, in the Federal Register (69 FR 58336).

DATES: These corrections are effective November 23, 2004.

ADDRESSES: Documents as indicated in this preamble are available for inspection or copying at the Docket Management Facility, USCG-2004-18884, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on these corrections, call Robert Spears, Project Manager, Standards Evaluation and Development Division (G-MSR-2), Coast Guard, at 202-267-1099. If you have questions on viewing, or submitting material to the docket, call Andrea M. Jenkins, Program Manager, Docket Operations, Department of Transportation, telephone 202-366-0271.

SUPPLEMENTARY INFORMATION:

Background

Each year titles 46 and 49 of the Code of Federal Regulations are updated on October 1. That rule, which became effective September 30, 2004, corrected organization names and addresses, revised authority citations for certain parts to reflect our move to the Department of Homeland Security (DHS) in March 2003, and made other technical and editorial corrections throughout titles 46 and 49. Neither that rule nor this rule makes any substantive change to the existing regulations.

Need for Correction

The final rule that was published on September 30, 2004, contains errors which may prove to be misleading and need to be clarified. This rule makes those clarifications.

List of Subjects

46 CFR Part 10

Reporting and recordkeeping requirements, Schools, Seamen.

46 CFR Part 12

Reporting and recordkeeping requirements, Seamen.

46 CFR Part 28

Fire prevention, Fishing vessels, Marine safety, Occupational safety and health, Reporting and recordkeeping requirements, Seamen.

46 CFR Part 30

Cargo vessels, Foreign relations, Hazardous materials transportation, Penalties, Reporting and recordkeeping requirements, Seamen.

For the reasons discussed in the preamble, the Coast Guard amends 46 CFR parts 10, 12, 28, and 30 as follows:

PART 10—LICENSING OF MARITIME PERSONNEL

1. The authority citation for part 10 continues to read as follows:

Authority: 14 U.S.C. 633; 31 U.S.C. 9701; 46 U.S.C. 2101, 2103, and 2110; 46 U.S.C. Chapter 71; 46 U.S.C. 7502, 7505, 7701, 8906; Department of Homeland Security Delegation No. 0170.1. Sec. 10.107 is also issued under the authority of 44 U.S.C. 3507.

§ 10.805 [Amended]

2. In § 10.805(f), remove the words “The expiration date of a certificate of registry issued without an expiration date shall be determined in accordance with § 10.811.”

PART 12—CERTIFICATION OF SEAMEN

3. The authority citation for part 12 continues to read as follows:

Authority: 31 U.S.C. 9701; 46 U.S.C. 2101, 2103, 2110, 7301, 7302, 7503, 7505, 7701; Department of Homeland Security Delegation No. 0170.1.

4. Revise § 12.02-3(b)(3) to read as follows:

§ 12.02-3 Where documents are issued.

(a) * * *

(b) * * *

(3) The written examinations are forwarded to the Commanding Officer, National Maritime Center by Merchant Marine Details. Any Marine Inspection Office at which an applicant with a temporary permit appears may request and obtain the examination in the case from the Commanding Officer, National Maritime Center. Any Marine Inspection Office which doubts the propriety of issuing a permanent certificate in lieu of a temporary permit which has been issued by a foreign Merchant Marine Detail shall inform the Commanding Officer, National Maritime Center fully as to the circumstances.

§ 12.15-5 [Amended]

5. In § 12.15-5(c), remove the word “therefore” and add, in its place, the word “therefor”.

PART 28—REQUIREMENTS FOR COMMERCIAL FISHING INDUSTRY VESSELS

6. The authority citation for part 28 continues to read as follows:

Authority: 46 U.S.C. 3316, 4502, 4505, 4506, 6104, 10603; Department of Homeland Security Delegation No. 0170.1.

§ 28.30 [Amended]

7. In § 28.30(a), after the words “subchapter S”, remove the words “of this chapter”; and before the words “subchapter S”, add the words “33 CFR”.

PART 30—GENERAL PROVISIONS

8. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.15-1 [Amended]

9. In § 30.15-1(a) remove the word “therefore” and add, in its place, the word “therefor”.

§ 30.30-11 [Amended]

10. In § 30.30-11(b) remove the word “therefore” and add, in its place, the word “therefor”.

Dated: November 17, 2004.
Stefan G. Venckus,
Chief, Office of Regulations and Administrative Law, United States Coast Guard.

[FR Doc. 04-25967 Filed 11-22-04; 8:45 am]

BILLING CODE 4910-13-P